DEPARTMENT OF DEFENSE

Department of the Navy

Notice of Availability for Donation as a Museum/Memorial, the Battleships ex-IOWA (BB 61) and ex-WISCONSIN (BB 64)

AGENCY: Department of the Navy, DOD.

ACTION: Notice.

SUMMARY: The Department of the Navy hereby gives notice of the availability for donation as a museum/memorial the battleship ex-IOWA (BB 61), located at the Suisun Bay Reserve Fleet, Benecia, CA, and battleship ex-WISCONSIN (BB 64) located adjacent to the Nauticus National Maritime Center/Hampton Roads Naval Museum in Norfolk, VA. The availability of these battleships for donation is in compliance with Public Law 109-163, the FY06 National Defense Authorization Act, and under the authority of 10 U.S.C. 7306. The Secretary of the Navy requires, as a condition of transfer, that the donee locate ex-IOWA within the State of California and ex-WISCONSIN within the Commonwealth of Virginia.

The transfer of ships for donation under 10 U.S.C. 7306 shall be made at no cost to the United States Government. The donee will be required to maintain the ship as a static display in a condition that is satisfactory to the Secretary of the Navy.

In accordance with Public Law 109-163, the 30-day Congressional notification of donation was waived for ex-IOWA and ex-WISCONSIN. It is in the best interests of the Navy to donate these ships as soon as possible. Therefore, a letter of intent will be required within 45 days from the date of this notice and all ship donation applications must be received within six months from the date of this notice.

Prospective donees must submit a letter of intent to the Navy Inactive Ship Program Office within 45 days of this Federal Register notice. The letter of intent must:

a. Identify the specific ship sought for donation;

b. Include a statement of the proposed use for the ship;

c. Identify the proposed berthing location;

d. If the applicant is not a state, territory or possession of the United States, or a political subdivision or municipal corporation thereof, or the District of Columbia, provide a copy of a determination letter by the Internal Revenue Service that the applicant is exempt from tax under the Internal Revenue Code, or submit evidence that the applicant has filed the appropriate documentation in order to obtain tax exempt status;

e. If the applicant asserts that it is a corporation or association whose charter or articles of agreement denies it the right to operate for profit, provide a properly authenticated copy of the charter, certificate of incorporation, and a copy of the organization's by-laws;

f. Provide a notarized copy of the resolution or other action of the applicant's governing board authorizing the person signing the application to represent the organization and to sign on its behalf for the purpose of obtaining a vessel; and

g. Provide written affirmation that the prospective donee can submit a complete ship donation application to the Navy, compliant with the Navy's application requirements, within six months of this Federal Register notice. If the applicant is incapable of meeting this deadline, specific rationale must be provided along with identification of the events that must be achieved and the timeline necessary in order to submit a complete ship donation application to the Navy. The Navy reserves the right to provide a reasonable extension for receipt of applications, or to reject a request for extension and to proceed with other applications received within the six-month deadline.

Upon receipt of the letter of intent, the Navy will contact the prospective donees to ensure a full understanding of the application requirements.

Qualified organizations in the state of California wishing to apply for ex-IOWA, and qualified organizations in the Commonwealth of Virginia wishing to apply for ex-WISCONSIN, must submit a complete application to the Navy within six months of this notice, comprised of a business/financial plan, a technical plan (includes a towing plan, mooring plan, maintenance plan and environmental plan), a curatorial/museum plan, and a community support plan (includes information concerning support from the community and benefit to the Navy). The application must address the following areas:

a. Business/Financial Plan: The Business/Financial Plan must detail the estimated start-up and operating costs, and provide detailed evidence of firm financing adequate to cover these costs. Start-up costs include towing, mooring (this includes but not limited to the cost of acquiring and improving facilities, and dredging if required), ship restoration, museum development, and meeting environmental requirements (including permitting fees and expenses). Operating costs are those associated with operating and maintaining the vessel as a museum/memorial, including rent, utilities, personnel, insurance, periodic dry-docking, etc. Firm financing means available funding to ensure the first five years of operation and future stability for long-term operation. This can include pledges, loans, gifts, bonds (except revenue bonds), funds on deposit at a financial institution, or any combination of the above. The applicant must also provide income projections from sources such as individual and group admissions, facility rental fees and gift shop revenues sufficient to cover the estimated operating expenses.

b. Technical: The technical plan is comprised of a Towing Plan, Mooring Plan, Maintenance Plan, and Environmental Plan.

The Towing Plan describes how the ship will be prepared for tow and safely towed from its present location to the permanent display site proposed by the applicant. The Towing Plan must comply with all U.S. Navy Tow Manual requirements, which can be found at http://www.supsalv.org/pdf/towman.pdf.

The Mooring Plan describes how the ship will be secured at its permanent display site during normal and extreme weather conditions (including the 100-year storm event) to prevent damage to the ship, its mooring system, the pier, and surrounding facilities. Provide evidence of availability of a facility for permanent mooring of the ship, either by ownership, existing lease, or by letter from the facility owners indicating a statement of intent to utilize such facilities. Address any requirement to obtain site-specific permits and/or municipality approvals required for the facility, to include but not limited to, Port Authority and Army Corps of Engineers approvals/permits, where required. The mooring location must be acceptable to the Navy and not obstruct or interfere with navigation.

The Environmental Plan describes how the applicant will comply with all Federal, state and local environmental and public health & safety regulations and permit requirements. The applicant must also provide information necessary for the Navy to complete an environmental assessment of the donation as required by the National Environmental Policy Act (NEPA), including the impact of the donation on the natural and man-made environment, local infrastructure, and evaluation of the socio-economic consequences of the donation.

The Maintenance Plan must describe plans for long-term, short-term, and daily maintenance of the vessel, including preservation and maintenance schedule, underwater hull inspections, emergency response and fire/flood/intrusion control, pest control, security, periodic dry-docking, and qualifications of the maintenance team.

c. The Curatorial/Museum Plan includes two parts: A Curatorial Plan and a Historic Management Plan. The Curatorial Plan must describe the qualifications for a professional curator (and curator staff, if necessary). The plan must also describe how the museum will collect and manage artifacts, including a statement of purpose and description of access, authority, and collection management responsibilities. The Historic Management Plan must describe how the museum will display the vessel and exhibits, including a description of the historical context of the ship, vessel restoration plans, historical subject matter that will be displayed with the ship, and exhibit display plans.

d. The Community Support Plan must include evidence of local support. Evidence of regional support should also be provided. This includes letters of endorsement from adjacent communities and counties, cities or states. Also describe how the location of the ship will encourage public visitation and tourism, become an integral part of the community, and how the ship will enhance community development. The Community Support Plan must also describe the benefit to the Navy, including, but not limited to, addressing how the prospective donee may support Navy recruiting efforts, the connection between the Navy and the proposed berthing location, how veterans associations in the area are willing to support the vessel, how the prospective donee will honor veterans' contributions to the United States, and how the exhibit will commemorate those contributions and showcase Naval traditions.

The relative importance of each area that must be addressed in the donation application is as follows: Business/Financial Plan and Technical Plan are the most important criteria and are equal in importance. Within the Technical Plan, the Mooring Plan is of greatest importance, and the Towing Plan, Maintenance Plan and Environmental Plan are individually of equal importance but of lesser importance to the Mooring Plan. The Curatorial/Museum Plan and Community Support Plan are of equal importance, but of lesser importance than the aforementioned plans.

Evaluation of the application(s) will be performed by the Navy to ensure the application(s) are compliant with the minimum acceptable application criteria and requirements. In the event of multiple compliant applications for the same battleship, the Navy will perform a comparative evaluation of the applications to determine the best-qualified applicant. The adjectival ratings to be used for each criterion include: Outstanding, Good, Satisfactory, Marginal and Unsatisfactory. The Secretary of the Navy or his designee will make the final donation decision.

Additional information concerning the application process and requirements are found on the Navy's Ship Donation Web site, http://www.navsea.navy.mil/ndp. The complete application must be submitted in hard copy and electronically on a CD to the Navy Inactive Ship Program Office within six months of this Federal Register notice. As stated above, the Navy Reserves the right to provide a reasonable extension for receipt of applications, or to reject a request for extension and to proceed with other applications received within the 6-month deadline.

For Further Information and Submission of Ship Donation Applications, Contact: Commander, Program Executive Office Ships (PEO SHIPS), PMS333, Navy Inactive Ship Program Office, Ship Donation Program, ATTN: Ms. Gloria Carvalho (PMS 333G), 300 M Street, SE., Suite 500, Washington, DC 20003, telephone number 202-781-0485.

Dated: March 23, 2006.
Eric McDonald,
Lieutenant Commander, Judge Advocate General's Corps, U.S. Navy, Federal Register Liaison Officer.

[FR Doc. E6-4557 Filed 3-28-06; 8:45 am]

BILLING CODE 3810-FF-P